FEDERAL COMMUNICATIONS COMMISSION

Public Information Collections Approved by Office of Management and Budget

July 5, 2005.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington, DC 20554, (202) 418-1359 or via the Internet at plaurenz@fcc.gov.

SUPPLEMENTARY INFORMATION: OMB Control No.: 3060-1085.

OMB Approval date: 6/28/2005.

Expiration Date: 12/31/2005.

Title: Federal Communications Commisssion Proposes Collection of Location Information, Provision of Notice and Reporting on Interconnected voice over Internet protocol (VoIP) E911 Compliance.

Form No.: N/A.

Estimated Annual Burden: 14,238,254 responses; 435,894 total annual burden hours; approximately .09-16 hours average per respondent.

Needs and Uses: The Federal Communications Commission (Commission) requires providers of interconnected voice over Internet protocol (VoIP) services to obtain information regarding their end users' location as a condition of providing service. Interconnected VoIP providers must provide that information to entities that maintain databases used to ensure that the caller's location and a call back number are provided to requesting public safety answering points when a 911 call is placed. The Commission also requires interconnected VoIP providers to ensure that end users understand any limitations of their service, obtain from the end user evidence of such understanding, and submit a letter to the Commission detailing their compliance with its E911 rules no later than 120 days after the rules become effective.

OMB Control No.: 3060-1083.

OMB Approval date: 6/28/2005.

Expiration Date: 06/30/2008.

Title: Request to Update Default Compensation Rate for Dial-Around Calls from Payphones, WC Docket No. 03-225.

Form No.: N/A.

Estimated Annual Burden: 10 responses; 1,000 total annual burden hours; 100 hours average response time per respondent.

Needs and Uses: Pursuant to Section 276(b)(1)(A) of the Act, the Commission is required to ensure that all payphone service providers are fairly compensated. In order to calculate fair compensation for the payphones that are not supported by Flex ANI, the Commission must obtain monthly payphone call volume data. Once the impacted entities (primarily the Regional Bell Operating Companies and the large interexchange companies) submit this data, the Commission will calculate an average monthly call volume as one of the key inputs required to establish per-payphone monthly compensation.

OMB Control No.: 3060-1005.

OMB Approval date: 6/28/2005.

Expiration Date: 06/30/2008.

Title: Numbering Resource Optimization—Phase 3.

Form No.: N/A.

Estimated Annual Burden: 53 responses; 3,380 total annual burden hours; 50-85 hours average response time per respondent.

Needs and Uses: In the Third Report and Order and Second Order on Reconsideration in CC Docket No. 99-200, the Commission continued efforts to maximize the efficiency with which numbering resources in the North American Numbering Plan (NANP) are utilized. In order for price cap LECs to qualify for exogenous adjustment to access charges established under the federal cost recovery mechanism, they must demonstrate that pooling results in a net cost increase rather than a cost reduction. Applications to state commission from carriers must demonstrate that certain requirements are met before states may grant use of the safety valve mechanism. State commission seeking to implement service-specific and/or technology-specific area code overlays, must request delegated authority to do so.

OMB Control No.: 3060-1012.

OMB Approval date: 6/14/2005.

Expiration Date: 06/30/2008.

Title: Schools and Libraries Universal Service Support Mechanism, CC Docket 02-6, NPRM, Proposed ADA Certification.

Form No.: N/A.

Estimated Annual Burden: 30,000 responses; 1,200 total annual burden hours; .04 hours average response time per respondent.

Needs and Uses: In CC Docket 02-6, the Commission sought comment on certain rules governing the schools and libraries universal service support mechanism. The Commission goals in the proceeding are to: (1) Consider changes that would fine-tune its rules to improve program operation; (2) to ensure that the benefits of the universal service support mechanism for schools and libraries are distributed in a manner that is fair and equitable: and (3) to improve its oversight over the program. Among other things, affected respondents may be required to certify to compliance with the ADA and related statutes and to use a computerized list to identify services or products.

OMB Control No.: 3060-0986.

OMB Approval date: 6/28/2005.

Expiration Date: 06/30/2008.

Title: Competitive Carrier Line Count Report.

Form No.: FCC Form 525.

Estimated Annual Burden: 4,753 responses; 3,707 total annual burden hours; .5-6 hours average response time per respondent.

Needs and Uses: On May 23, 2001, the Commission adopted rules for determining high-cost universal service support for rural telephone companies for the next five years based upon proposals made by the Rural Task Force. The commision also addressed certain proposals made by the Multi-Association Group for reforming universal services applicable to rural carriers. FCC form 525 will be used to gather some of the information needed in a standardized format to help eliminate duplication of information collected. The information collected will be used to determine whether and to what extent rural telecommunications carriers providing the data are eligible to receive universal service support.

OMB Control No.: 3060-0804.

OMB Approval date: 6/28/2005.

Expiration Date: 06/30/2008.

Title: Universal Service—Health Care Providers Universal Service Program.

Form No.: FCC Forms 465, 466, 466-A and 467.

Estimated Annual Burden: 12,840 responses; 17,720 total annual burden hours; .5-3 hours average response time per respondent.

Needs and Uses: In the Second Report and Order, Order on Recon., and FNPRM (FCC 04-289), the Commission changed it's definition of rural for purposes of the rural health care universal service support mechanism. The Commission also revised its rules to expand funding for mobile rural health care services and established a fixed deadline for filing FCC Forms 466 and 466-A. On reconsideration, the Commission permits states that are entirely rural to receive support for advanced telecom. and information services. The FNPRM seeks comment on whether to increase the percentage discount that rural health care providers receive for Internet access support and whether infrastructure development should be funded, and also whether to modify its rules to allow mobile rural health care providers to use services other than satellite.

OMB Control No.: 3060-0734.

OMB Approval date: 6/28/2005.

Expiration Date: 06/30/2008.

Title: Accounting Safeguards, CC Docket No. 96-150, 47 U.S.C. 260 and 271-276, Sections 53.209, 53.211 and 53.213.

Form No.: N/A.

Estimated Annual Burden: 38 responses; 131,523 total annual burden hours; 24-19,200 hours average response time per respondent.

Needs and Uses: In the R&O in CC Docket 96-150, the Commission prescribed the way ILECs, including the BOCs, must account for transactions with affiliates involving, and allocate costs incurred in the provision of, both regulated telecommunications services and nonregulated services, including telemessaging, interLATA telecommunications and information services, telecommunications equipment and CPE manufacturing and others pursuant to 47 U.S.C. 260 and 271 through 276. The Commission also adopted requirements for implementing section 272 of the Act, including, but not limited to, administering the section 272 independent audits.

Federal Communications Commission.
Marlene H. Dortch,
Secretary.

[FR Doc. 05-14843 Filed 7-26-05; 8:45 am]

BILLING CODE 6712-01-P